DEPARTMENT OF DEFENSE

Office of the Secretary

[Transmittal No. 21-67]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-67 with attached Policy Justification.

Dated: May 25, 2023.
Aaron T. Siegel,
Alternate OSD Federal Register Liaison Officer, Department of Defense.

Transmittal No. 21-67

Notice of Proposed Issuance of Letter of Offer Pursuant to Section 36(b)(1) of the Arms Export Control Act, as amended

(i) Prospective Purchaser: Government of France

(ii) Total Estimated Value:

Major Defense Equipment * | $ 0 million
Other | $300 million
TOTAL | $300 million

(iii) Description and Quantity or Quantities of Articles or Services under Consideration for Purchase:

Major Defense Equipment (MDE):

None

Non-MDE:

Follow-on Contractor Logistics Support to include contractor provided MQ-9 aircraft components, spares and accessories; repair and return; software and software support services; simulator software; personnel training and training equipment; publications and technical documentation; U.S. Government and contractor provided engineering, technical and logistical support services; and other related elements of logistical and program support.

(iv) Military Department: Air Force (FR-D-QAO)

(v) Prior Related Cases, if any: FR-D-STE, FR-D-SAC, FR-D-SAD

(vi) Sales Commission, Fee, etc., Paid, Offered, or Agreed to be Paid: None

(vii) Sensitivity of Technology Contained in the Defense Article or Defense Services Proposed to be Sold: None

(viii) Date Report Delivered to Congress: January 7, 2022

* As defined in Section 47(6) of the Arms Export Control Act.

POLICY JUSTIFICATION

France—MQ-9 Follow-on Contractor Logistics Support

The Government of France has requested to buy follow-on Contractor Logistics Support to include contractor provided MQ-9 aircraft components, spares and accessories; repair and return; software and software support services; simulator software; personnel training and training equipment; publications and technical documentation; U.S. Government and contractor provided engineering, technical and logistical support services; and other related elements of logistical and program support. The estimated total cost is $300 million.

This proposed sale will support the foreign policy and national security objectives of the United States by helping to improve the security of a NATO ally that is an important force for political stability and economic progress in Europe.

The proposed sale will improve France's capability to meet current and future threats by ensuring the operational readiness of the French Air Force. France's MQ-9 aircraft fleet provides Intelligence, Surveillance, and Reconnaissance support that directly supports U.S. and coalition operations around the world. France will have no difficulty absorbing these support services into its armed forces.

The proposed sale of this equipment and support will not alter the basic military balance in the region.

The principal contractor will be General Atomics, Poway, CA. There are no known offset agreements proposed in connection with this potential sale.

Implementation of this proposed sale will not require the assignment of any additional U.S. Government or contractor representatives to France.

There will be no adverse impact on U.S. defense readiness as a result of this proposed sale.

[FR Doc. 2023-11580 Filed 5-31-23; 8:45 am]

BILLING CODE 5001-06-P